DEPARTMENT OF COMMERCE

National Oceanic and Atmospheric Administration

Agency Information Collection Activities; Submission to the Office of Management and Budget (OMB) for Review and Approval; Comment Request; NOAA Marine Fisheries Advisory Committee Survey on Marine Mammal Deterrents

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 22, 2023.

ADDRESSES: Interested persons are invited to submit written comments to Adrienne Thomas, NOAA PRA Officer, at NOAA.PRA@noaa.gov. Please reference OMB Control Number 0648-XXXX in the subject line of your comments. Do not submit Confidential Business Information or otherwise sensitive or protected information.

FOR FURTHER INFORMATION CONTACT: Requests for additional information or specific questions related to collection activities should be directed to Katie Denman, Policy Analyst, National Marine Fisheries Service, Office of Policy, 1325 East-West Hwy Silver Spring, MD 20910, (301) 427-8038, and katie.denman@noaa.gov.

SUPPLEMENTARY INFORMATION:

I. Abstract

This is a request for a new information collection.

A recent summary of a series of marine mammal deterrent workshops by NOAA Fisheries states, “under a recent proposed rule, NOAA Fisheries developed guidelines for deterring marine mammals under its jurisdiction, and recommended specific measures for species listed under the Endangered Species Act (ESA). The guidelines focus on how to safely use deterrents to avoid injuring or killing marine mammals. However, evaluation of the efficacy of each deterrent was beyond the scope of the rulemaking process, and available data on deterrent effectiveness is lacking.” ¹

¹ (Raum-Suryan et al.) p. 1.

Consequently, the Protected Resources Subcommittee of the Marine Fisheries Advisory Committee (MAFAC) was asked to help NOAA Fisheries narrow down the scope for assessing the effectiveness of the marine mammal deterrents listed in the proposed guidelines and create a decision making process to prioritize areas to begin characterizing the effectiveness. To achieve this, the Subcommittee plans to rank relative risk of expected losses from interactions with marine mammals by various user groups nationwide, which will identify where the biggest impacts of marine mammals are likely to be occurring. The information for the relative risk and expected loss analysis will be generated through a survey of five user groups (commercial fishermen, recreational fishermen, tribal fishermen (inclusive of tribal nations and other coastal indigenous populations), aquaculture operators, and waterfront property managers (e.g. harbormasters and harbor facility assistants)).

II. Method of Collection

The MAFAC will employ electronic technology to conduct and analyze the survey through the open access and easy-to-use Google Forms software. The link to the form can be shared widely by announcement on the NOAA MAFAC website, through e-newsletters, email, and to the wide spectrum of NOAA partners and constituents.

III. Data

OMB Control Number: 0648-XXXX.

Form Number(s): None.

Type of Review: Regular submission [New information collection].

Affected Public: Individuals or households.

Estimated Number of Respondents: 150 individuals.

Estimated Time per Response: 5 minutes.

Estimated Total Annual Burden Hours: 12.5 hours.

Estimated Total Annual Cost to Public: $0.

Respondent's Obligation: Voluntary.

Legal Authority: The Secretary of Commerce approved the establishment of the Marine Fisheries Advisory Committee (MAFAC or Committee) on December 28, 1970. The Committee was initially chartered on February 17, 1971, and has been renewed periodically under the Federal Advisory Committee Act, as amended (FACA), 5 U.S.C. app. It has been determined the Committee's continuance is in the public interest in accordance with the duties and the laws imposed on the Department. The Committee advises the Secretary of Commerce (Secretary) on all living marine resource matters that are the responsibility of the Department of Commerce. Specifically, the Committee draws on the expertise of its members, its task forces, and other appropriate sources, such as the National Oceanic and Atmospheric Administration's (NOAA) National Marine Fisheries Service (NMFS), to evaluate and recommend priorities and needed changes in national program direction. Its objective is to ensure the Nation's living marine resource policies and programs meet the needs of commercial and recreational fishermen, aquaculture activities, and environmental, consumer, academic, tribal, governmental, and other national interests.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-13372 Filed 6-22-23; 8:45 am]

BILLING CODE 3510-22-P